DEPARTMENT OF TRANSPORTATION

National Highway Traffic Safety Administration

49 CFR Part 571

[Docket No. NHTSA-2003-15505]

NHTSA Vehicle Safety Rulemaking and Supporting Research: Calendar Years 2003-2006

AGENCY: National Highway Traffic Safety Administration (NHTSA), DOT.

ACTION: Vehicle safety rulemaking priorities document; notice of availability.

SUMMARY: This document announces the availability of a planning document that describes NHTSA's vehicle safety rulemaking priorities with supporting research through 2006. The plan includes those rulemaking actions of highest priority for the period 2003 to 2006, based primarily on the greatest potential protection of lives and prevention of injury, that fall within the immediate four-year time frame. In addition, NHTSA has considered the realistic likelihood for successful action, especially considering the reality of numerous worthwhile options competing for budgetary resources. The priorities were defined through extensive discussions within the agency, taking into account the views heard in recent years at public meetings and comments submitted to the agency via rulemaking notices and requests for comment. In addition, comments submitted by the public in response to a Request for Comments announcing the draft of this plan on July 25, 2002 (Docket No. NHTSA-2002-12391) were evaluated and incorporated, as appropriate, into the planned agency activities. The results produced by previous NHTSA rulemaking priority planning exercises also provided input to this process. While the plan includes other active areas, in addition to the rulemaking priorities, it discusses only a portion of all rulemaking actions the agency has begun or plans to undertake in the four-year period. The absence of a particular regulatory or research activity from the plan does not necessarily mean that the agency will not pursue it. Although the execution of a priority plan is affected by factors beyond its control (e.g., petitions, budgets, legislation), this plan provides a blueprint for regulatory action on those vehicle safety goals the agency considers its highest priorities.

ADDRESSES: Interested persons may obtain a copy of the planning document by downloading a copy of the document from the Docket Management System, U.S. Department of Transportation, at the address provided below, or from NHTSA's Web site at http://www.nhtsa.dot.gov/cars/rules/rulings. Alternatively, interested persons may obtain a copy of the document by contacting the agency officials listed in the section titled, “For Further Information Contact,” immediately below.

The Docket Management System is located on the Plaza level of the Nassif Building at the U.S. Department of Transportation, PL 401, 400 Seventh Street, SW, Washington, DC 20590-0001. You can review public dockets there between the hours of 9 a.m. and 5 p.m., Monday through Friday, except Federal holidays. You can also review comments on-line at the DOT Docket Management System Web site at http://dms.dot.gov.

FOR FURTHER INFORMATION CONTACT: Lawrence L. Hershman, Office of Rulemaking, NVS-133, National Highway Traffic Safety Administration, Room 5320, 400 Seventh Street, SW, Washington, DC 20590. Telephone: 202-366-4929. E-mail: lhershman@nhtsa.dot.gov.

SUPPLEMENTARY INFORMATION: Motor vehicle crashes killed more than 42,000 individuals and injured 2.9 million others in six million crashes in 2001. In addition to the terrible personal toll, these crashes make a huge economic impact on our society with an estimated annual cost of $230.6 billion, or an average of $820 for every person living in the United States. One of the most important ways in which NHTSA carries out its safety mandate is to issue and enforce Federal Motor Vehicle Safety Standards (FMVSS). Through these rules, NHTSA strives to reduce the number of crashes and to minimize the consequences of those crashes that do occur. NHTSA's rulemaking activities, via the Rulemaking Program with support from the offices of Applied Research, Enforcement, Planning, Evaluation and Budget, Advanced Research and Analysis, and Chief Counsel, identify safety problem areas, develop countermeasures, and collect and analyze information to develop new FMVSS and amendments to existing FMVSS.

As we continue into the new century, NHTSA will strive to influence the automotive industry to incorporate the rapidly accelerating pace of advances in vehicle and safety technology into new vehicles while ensuring that the use of the new technologies enhances vehicle safety. The plan outlines the highlights of NHTSA's vehicle safety rulemaking plans through 2006. Agency priorities emanate from many sources, including: the size of the safety problem and likelihood of solutions, Executive initiatives, Congressional interest and mandates, petitions to the agency for rulemaking and other expressions of public interest, interest in harmonizing safety standards with those of other nations, and changes needed as a result of new vehicle technologies. The starting point for rulemaking priorities is the quest for the greatest potential protection of lives and prevention of injury.

The plan is organized along several broad categories: Crash Prevention includes crash avoidance data, driver distraction, vehicle visibility, crash warnings, and vehicle control and handling. Occupant Protection includes protection in frontal, side, rollover, and rear crashes. Other sections cover Incompatibility Between Passenger Cars and Light Trucks, Heavy Truck Safety, and Protecting Special Populations, including safety for children, people with disabilities, and older people.

The plan includes several potential rulemaking projects that require additional research to determine whether rulemaking action is needed, but are priorities based on their potential for significantly sizeable death and injury prevention benefits. The plan also contains an appendix that discusses some other regulatory activities that the agency considers important, although not rising to the same level of immediate high priority as the activities included in the main body of the plan. Another appendix discusses upcoming milestones in consumer information activities that the agency plans to pursue in the next few years, including the New Car Assessment Program (NCAP).

This document announces the availability of the document to the public. Received comments on the draft plan were evaluated and incorporated, as appropriate, into planned agency activities. Comments that could not be accommodated in the current plan will be considered in the context of future updates.

The plan will be posted on NHTSA's Web site on July 21, 2003. The agency intends to periodically update the plan.

You may also see the plan on the Internet by taking the following steps:

1. Go to the Docket Management System (DMS) Web page of the Department of Transportation (http://dms.dot.gov).

2. On that page, click on “search.”

3. On the next page (http://dms.dot.gov/search/) type in the five-digit Docket number shown at the beginning of this document (NHTSA-2003-15505). Click on “search.”

4. On the next page, which contains Docket summary information for the Docket you selected, click on the desired document. You may also download the document.

Authority: 49 U.S.C. 30111, 30117, 30168; delegation of authority at 49 CFR 1.50 and 501.8.

Issued on: July 17, 2003.
Stephen R. Kratzke,
Associate Administrator for Rulemaking.

[FR Doc. 03-18914 Filed 7-24-03; 8:45 am]

BILLING CODE 4910-59-P